DEPARTMENT OF COMMERCE

National Oceanic and Atmospheric Administration

RIN: 0648-XG47

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet April 6-12, 2008. The Council meeting will begin on Monday, April 7, at 12:30 p.m., reconvening each day through Saturday. All meetings are open to the public, except a closed session will be held from 12:30 p.m. until 1:30 p.m. on Monday, April 7 to address litigation and personnel matters. The Council will meet as late as necessary each day to complete its scheduled business.

ADDRESSES: The meetings will be held at the Seattle Marriott Hotel, 3201 South 176th Street, Seattle, WA 98188; telephone: (206) 241-2000.

Council address: Pacific Fishery Management Council, 7700 NE Ambassador Place, Suite 101, Portland, OR 97220.

FOR FURTHER INFORMATION CONTACT: Dr. Donald O. McIsaac, Executive Director; telephone: (503) 820-2280.

SUPPLEMENTARY INFORMATION: The following items are on the Council agenda, but not necessarily in this order:

A. Call to Order

1. Opening Remarks and Introductions

2. Roll Call

3. Executive Director's Report

4. Approve Agenda

B. Open Public Comment

Comments on Non-Agenda Items

C. Administrative Matters

1. Future Council Meeting Agenda and Workload Planning

2. Legislative Matters

3. Magnuson-Stevens Act Reauthorization Implementation

4. Membership Appointments and Council Operating Procedures

D. Enforcement Issues

Fishery Enforcement Activity Report

E. Habitat

Current Habitat Issues

F. Salmon Management

1. Tentative Adoption of 2008 Ocean Salmon Management Measures for Analysis

2. Clarify Council Direction on 2008 Management Measures

3. Pacific Salmon Commission Coded-Wire Tag Workgroup Report

4. Methodology Review Process and Preliminary Topic Selection for 2008

5. Final Action on 2008 Management Measures

6. Clarify Final Action on 2008 Management Measures

G. Pacific Halibut Management

Incidental Catch Regulations for the Salmon Troll and Fixed Gear Sablefish Fisheries

H. Groundfish Management

1. Management Specifications for 2009-2010 Fisheries

2. NMFS Report

3. Fishery Management Plan Amendment 21: Intersector Allocation

4. Consideration of Inseason Adjustments

5. Part I of Management Measures for 2009-2010 Fisheries

6. Part II of Management Measures for 2009-2010 Fisheries

7. Final Consideration of Inseason Adjustments

I. Marine Protected Areas

1. Proposals for New Marine Protected Areas in the Monterey Bay National Marine Sanctuary

2. Olympic Coastal National Marine Sanctuary Condition Report

J. Highly Migratory Species Management

1. NMFS Report

2. Recommendations to the U.S. Section of the Inter-American Tropical Tuna Commission

3. Exempted Fishing Permit for Longline Fishing in the West Coast Exclusive Economic Zone

SCHEDULE OF ANCILLARY MEETINGS
SUNDAY, April 6, 2008 |
Groundfish Advisory Subpanel | 1 p.m.
Groundfish Management Team | 1 p.m.
Legislative Committee | 1 p.m.
MONDAY, April 7, 2008 |
Council Secretariat | 7 a.m.
California State Delegation | 7 a.m.
Oregon State Delegation | 7 a.m.
Groundfish Advisory Subpanel | 8 a.m.
Groundfish Management Team | 8 a.m.
Salmon Advisory Subpanel | 8 a.m.
Salmon Technical Team | 8 a.m.
Scientific and Statistical Committee | 8 a.m.
Habitat Committee | 9 a.m.
Enforcement Consultants | 4:30 p.m.
Tribal Policy Group | As necessary
Tribal and Washington Technical Group | As necessary
Washington State Delegation | As necessary
TUESDAY, April 8, 2008 |
Council Secretariat | 7 a.m.
California State Delegation | 7 a.m.
Oregon State Delegation | 7 a.m.
Enforcement Consultants | 8 a.m.
Groundfish Advisory Subpanel | 8 a.m.
Groundfish Management Team | 8 a.m.
Salmon Advisory Subpanel | 8 a.m.
Salmon Technical Team | 8 a.m.
Tribal Policy Group | As necessary
Tribal and Washington Technical Group | As necessary
Washington State Delegation | As necessary
WEDNESDAY, April 9, 2008 |
Council Secretariat | 7 a.m.
California State Delegation | 7 a.m.
Oregon State Delegation | 7 a.m.
Groundfish Advisory Subpanel | 8 a.m.
Groundfish Management Team | 8 a.m.
Salmon Advisory Subpanel | 8 a.m.
Salmon Technical Team | 8 a.m.
Enforcement Consultants | As necessary
Tribal Policy Group | As necessary
Tribal and Washington Technical Group | As necessary
Washington State Delegation | As necessary
THURSDAY, April 10, 2008 |
Council Secretariat | 7 a.m.
California State Delegation | 7 a.m.
Oregon State Delegation | 7 a.m.
Groundfish Advisory Subpanel | 8 a.m.
Groundfish Management Team | 8 a.m.
Highly Migratory Species Advisory Subpanel | 8 a.m.
Highly Migratory Species Management Team | 8 a.m.
Salmon Advisory Subpanel | 8 a.m.
Salmon Technical Team | 8 a.m.
Enforcement Consultants | As necessary
Tribal Policy Group | As necessary
Tribal and Washington Technical Group | As necessary
Washington State Delegation | As necessary
FRIDAY, April 11, 2008 |
Council Secretariat | 7 a.m.
California State Delegation | 7 a.m.
Oregon State Delegation | 7 a.m.
Groundfish Advisory Subpanel | 8 a.m.
Groundfish Management Team | 8 a.m.
Highly Migratory Species Advisory Subpanel | 8 a.m.
Highly Migratory Species Management Team | 8 a.m.
Salmon Advisory Subpanel | 8 a.m.
Salmon Technical Team | 8 a.m.
Enforcement Consultants | As necessary
Tribal Policy Group | As necessary
Tribal and Washington Technical Group | As necessary
Washington State Delegation | As necessary
SATURDAY, April 12, 2008 |
Council Secretariat | 7 a.m.
California State Delegation | 7 a.m.
Oregon State Delegation | 7 a.m.
Enforcement Consultants | As necessary
Washington State Delegation | As necessary

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at 503-820-2280 at least 5 days prior to the meeting date.

Dated: March 18, 2008.
Tracey L. Thompson,
Acting Director, Office of Sustainable Fisheries, National Marine Fisheries Service.

[FR Doc. E8-5755 Filed 3-20-08; 8:45 am]

BILLING CODE 3510-22-S